DEPARTMENT OF HEALTH AND HUMAN SERVICES

Centers for Disease Control and Prevention

Advisory Council for the Elimination of Tuberculosis (ACET) Meeting; Correction

Notice is hereby given of a change in the meeting of the Advisory Council for the Elimination of Tuberculosis (ACET): December 11, 2018, 8:30 a.m. to 4:30 p.m., EDT which was published in the Federal Register on November 2, 2018 Volume 83, Number 213, pages 55172.

The time for December 11, 2018, 8:30 a.m. to 4:30 p.m., EST should read as follows: 10:00 a.m. to 4:30 p.m., EST.

FOR FURTHER INFORMATION CONTACT: Margie Scott-Cseh, Committee Management Specialist, CDC, 1600 Clifton Road NE, Mailstop: E-07, Atlanta, Georgia 30329, telephone (404) 639-8317; zkr7@cdc.gov.

The Chief Operating Officer, Centers for Disease Control and Prevention, has been delegated the authority to sign Federal Register notices pertaining to announcements of meetings and other committee management activities, for both the Centers for Disease Control and Prevention and the Agency for Toxic Substances and Disease Registry.

Sherri Berger,
Chief Operating Officer, Centers for Disease Control and Prevention.

[FR Doc. 2019-01205 Filed 2-5-19; 8:45 am]

BILLING CODE 4163-18-P